COMMISSION ON CIVIL RIGHTS

Notice of Public Meeting of the U.S. Virgin Islands Advisory Committee to the U.S. Commission on Civil Rights; Correction

AGENCY: Commission on Civil Rights.

ACTION: Notice; correction to meeting information.

SUMMARY: The Commission on Civil Rights published a notice in the Federal Register on Friday, June 16, 2023, concerning a meeting of the U.S. Virgin Islands Advisory Committee. The meeting information has changed since to accommodate the availability of the two invited experts who will assist with the Committee's review. The meeting will now take place on Tuesday, July 18, 2023, from 11:00 a.m. to 1:00 p.m. Atlantic Time. The purpose of the meeting is to hear testimony on the political status and civil rights implications in the U.S. Virgin Islands.

FOR FURTHER INFORMATION CONTACT: David Barreras, Designated Federal Officer, at dbarreras@usccr.gov or 1-202-656-8937.

SUPPLEMENTARY INFORMATION:

Correction: In the Federal Register on Friday, June 16, 2023, in FR Document 2023-12879, from the second column of page 39397 to the first column of page 39398, correct the meeting information to the following:

DATES: Tuesday, July 18, 2023, from 11:00 a.m. to 1:00 p.m. Atlantic Time.

Meeting Link (Audio/Visual): https://www.zoomgov.com/j/1611555258

Join by Phone (Audio Only): 1-833-435-1820 USA Toll-Free; Meeting ID: 161 155 5258#

Exceptional Circumstance: Pursuant to 41 CFR 102-3.150, the notice for this meeting is given fewer than 15 calendar days prior to the meeting because of the exceptional circumstances of the speaking availability of the panelists.

Dated: July 3, 2023.
David Mussatt,
Supervisory Chief, Regional Programs Unit.

[FR Doc. 2023-14449 Filed 7-7-23; 8:45 am]

BILLING CODE P